DEPARTMENT OF THE INTERIOR

Bureau of Land Management

[NV-050-5853-ES; N-66442]

Notice of Realty Action: Change of Use for Recreation and Public Purposes Lease/Conveyance

AGENCY: Bureau of Land Management, Interior.

ACTION: Recreation and public purposes change of use.

SUMMARY: Clark County of Nevada proposes to change the use of public lands in an existing Recreation and Public Purposes lease to add a fire station facility.

FOR FURTHER INFORMATION CONTACT: Susan Woods, BLM Realty Specialist, (702) 515-5129.

SUPPLEMENTARY INFORMATION: The following described public land in Las Vegas, Clark County, Nevada was classified and segregated on April 19, 2002, for lease/conveyance under provisions of the Recreation and Public Purposes (R&PP) Act, as amended (43 U.S.C. 869 et seq.). (Federal Register, Vol. 67, No. 76, page 19446).

The proposed change of use to include a five-acre fire-station facility to the lease/conveyance is consistent with uses authorized under the R&PP Act.

T. 22 S., R. 60 E.,

sec. 28, N½SW¼, SW¼SW¼, N½SE¼SW¼, SE¼SE¼SW¼, E½NE¼NE¼SE¼, E½NW¼NE¼SE¼, S½NE¼SE¼, NW¼SE¼, SW¼SE¼, W½SE¼SE¼, N½NE¼SE¼SE¼.

(Containing approximately 285.0 acres)

For a period of 45 days from the date of publication of this notice in the Federal Register, interested parties may submit comments regarding the proposed change of use for the lands to the Field Manager, Las Vegas Field Office, 4701 N. Torrey Pines Drive, Las Vegas, Nevada 89130.

Classification Comments: Given the public lands were previously classified for R&PP purposes, comments pertaining to classification will not be accepted.

Application Comments: Interested parties may submit comments regarding the specific use proposed in the application and plan of development, whether the BLM followed proper administrative procedures in reaching the decision or any other factor not related to the suitability of the land for the proposed facilities. Any adverse comments will be reviewed by the State Director who may sustain, vacate, or modify this realty action. In the absence of any adverse comments, the change of use of the land described in the Notice will become effective 60 days from the date of publication in the Federal Register.

Dated: December 16, 2004.
Sharon DiPinto,
Assistant Field Manager, Division of Lands.

[FR Doc. 05-4147 Filed 3-2-05; 8:45 am]

BILLING CODE 4310-HC-P